DEPARTMENT OF HEALTH AND HUMAN SERVICES

Centers for Disease Control and Prevention

[30-Day 11-0636]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Centers for Disease Control and Prevention (CDC) Secure Communications Network (Epi-X) (OMB No. 0929-0636 exp. 12/31/2010 formerly State-Based Evaluation of the Alert Notification Component of CDC's Secure Communication Network (Epi-X))—Revision—Office of Public Health Preparedness and Response (OPHPR), Centers for Disease Control and Prevention (CDC).

Background and Brief Description

The classification of this Information Collection (IC) is a revision of the State-Based Evaluation of the Alert Notification Component of CDC's Secure Communication Network (Epi-X) OMB Control No. 0920-0636. During this revision, we are requesting the title be revised to read—Centers for Disease Control and Prevention (CDC) Secure Communications Network (Epi-X).

This IC is also being revised to improve the effectiveness of CDC communications with its public health partners during public health incident responses. Improvements include the addition of new data collection instruments related to six specific public health incidents. The addition of these instruments and the associated increase in burden hours is required to ensure that CDC and other Federal agencies will have secure, timely, and accurate information from our public health partners. This information is required by CDC during a public health incident for decision making and for effective and efficient execution of CDC's response activities. Public health partners include public health officials and agencies at the state and local level.

From 2005-2009, CDC conducted incident specific, public health emergency response operations on average of four public health incidents a year with an average emergency response length of 48 days for each incident. The effectiveness and efficiency of CDC's response to any public health incident depends on information at the agency's disposal to characterize and monitor the incident, make timely decisions, and take appropriate actions to prevent or reduce the impact of the incident.

Available information during many public health incident responses is often incomplete, is not easily validated by state and local health authorities, and is sometimes conflicting. This lack of reliable information often creates a high level of uncertainty with potential negative impacts on public health response operations.

Secure communications with CDC's state and local public health partners is essential to de-conflict information, validate incident status, and establish and maintain accurate situation awareness. Reliable, secure communications are essential for the agency to, make informed decisions, and to respond in the most appropriate manner possible in order to minimize the impact of an incident on the public health of the United States.

Epi-X is CDC's Web-based communication system for securely communicating during public health emergencies that have multi-jurisdictional impact and implications. Epi-X was specifically designed to provide public health decision-makers at the state and local levels a secure, reliable tool for communicating information about sensitive, unusual, or urgent public health incidents to neighboring jurisdictions as well as to CDC. The system was also designed to generate a request for epidemiologic assistance (Epi-Aid) from CDC using a secure, paperless environment.

Epi-X designers have developed functionalities that permit targeting of critical outbreak information to specific public health authorities who can act quickly to prevent the spread of diseases and other emergencies in multi-jurisdictional settings, such as those that could occur during an influenza pandemic, infection of food and water resources, and natural disasters.

CDC has recognized a need to expand the use of Epi-X to collect specific response related information during public health emergencies. Authorized Officials from state and local health departments impacted by the public health incident will be surveyed only by Epi-X. Respondents will be informed of this data collection first through an Epi-X Facilitator, who will work closely with Epi-X program staff to ensure that Epi-X incident specific IC is understood. The survey instruments will contain specific questions relevant to the current and ongoing public health incident and response activities.

The Web-based tool for data collection under Epi-X already is established for the current IC and has been in use since 2003. CDC will adapt it as needed to accommodate the data collection instruments. Respondents will receive the survey instrument as an official CDC e-mail, which is clearly labeled, “Epi-X Emergency Public Health Incident Information Request.” The e-mail message will be accompanied by a link to an Epi-X Forum discussion web page. Respondents can provide their answers to the survey questions by posting information within the discussion.

There are no costs to respondents except their time. The total estimated annual burden hours are 24,400.

Estimated Annualized Burden Hours
Type of respondent | No. of respondents | No. of responses per respondent | Average burden per response (in hours)
State epidemiologists | 50 | 104 | 1
City and county health officials | 1600 | 12 | 1

Dated: November 4, 2010.
Carol Walker,
Acting Reports Clearance Officer, Centers for Disease Control and Prevention.

[FR Doc. 2010-28577 Filed 11-12-10; 8:45 am]

BILLING CODE 4163-18-P